DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that collections of information included in a regulation pertaining to participant directed individual account plans under section 404(c) of the Employee Retirement Income Security Act of 1974 (ERISA) and in ERISA Technical Release 91-1 have been approved by the Office of Management and Budget (OMB) under the Paperwork Reduction Act of 1995 (44 U.S.C. 3501-3520) (PRA 95). This notice announces the OMB approval numbers and expiration dates.

FOR FURTHER INFORMATION CONTACT: Address requests for copies of the information collection requests (ICRs) to Gerald B. Lindrew, U.S. Department of Labor, Pension and Welfare Benefits Administration, 200 Constitution Avenue, NW., Room N-5647, Washington, DC, 20210. Telephone: (202) 219-4782. This is not a toll-free number.

SUPPLEMENTARY INFORMATION: In the Federal Register of January 18, 2001 (66 FR 4865), PWBA announced its intent to request renewal of its current OMB approval for the information collection provisions in a regulation pertaining to participant directed individual account plans under section 404(c) of the Employee Retirement Income Security Act of 1974 (ERISA). In accordance with the PRA 95, OMB has renewed its approval for the ICR under OMB control number 1210-0090. The approval expires December 31, 2002.

In the Federal Register of January 18, 2001 (66 FR 4864), the Agency announced its intent to request renewal of its current OMB approval for the information collection provisions of Technical Release 91-1, related to the transfer of excess assets from a defined benefit plan to a retiree health benefits account. In accordance with PRA 95, OMB has renewed its approval for the ICR under OMB control number 1210-0084. The approval expires December 31, 2002.

Under 5 CFR 1320.5 (b), an Agency may not conduct or sponsor, and a person is not required to respond to, a collection of information unless the collection of information displays a valid control number.

Dated: August 28, 2001.
Gerald B. Lindrew,
Deputy Director, Office of Policy and Research, Pension and Welfare Benefits Administration.

[FR Doc. 01-22527 Filed 9-6-01; 8:45 am]

BILLING CODE 4510-29-P